DEPARTMENT OF TRANSPORTATION

Federal Aviation Administration

14 CFR Part 39

[Docket No. FAA-2016-5422; Directorate Identifier 2016-CE-011-AD; Amendment 39-18456; AD 2016-07-11]

RIN 2120-AA64

Airworthiness Directives; Weatherly Aircraft Company Airplanes

AGENCY: Federal Aviation Administration (FAA), DOT.

ACTION: Final rule; request for comments.

SUMMARY: We are adopting a new airworthiness directive (AD) for all Weatherly Aircraft Company Models 201, 201A, 201B, 201C, 620, 620A, 620B, 620B-TG, and 620TP airplanes. This AD requires visually inspecting the center and outer wing front spar lower hinge fittings for cracks and corrosion and taking all necessary corrective actions. This AD also requires sending the inspection results to the FAA. This AD was prompted by a report of cracks found on the center wing front spar lower hinge fitting. We are issuing this AD to correct the unsafe condition on these products.

DATES: This AD is effective April 15, 2016.

We must receive comments on this AD by May 16, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

Examining the AD Docket

You may examine the AD docket on the Internet at http://www.regulations.gov by searching for and locating Docket No. FAA-2016-5422; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Mike Lee, Aerospace Engineer, Los Angeles Aircraft Certification Office, FAA, 3960 Paramount Blvd., Suite 100, Lakewood, California, 90712; phone: (562) 627-5325; fax: (562) 627-5210; email: mike.s.lee@faa.gov.

SUPPLEMENTARY INFORMATION:

Discussion

Recently, a Weatherly Aircraft Company Model 620B airplane crashed while conducting agricultural operations. Preliminary investigation indicates presence of fatigue cracks in the center wing front spar lower hinge fitting of the accident aircraft. As a result of voluntary operator inspections, an additional cracked fitting in the center wing joint was recently reported.

Investigation reveals that the cracks resulted from fatigue damage on the hinge fitting and that routine maintenance practices are not finding this damage. This condition, if not detected and corrected, could result in failure of the wing front spar lower hinge fittings, which could cause the wing to separate and cause loss of control. We are issuing this AD to correct the unsafe condition on these products.

FAA's Determination

We are issuing this AD because we evaluated all the relevant information and determined the unsafe condition described previously is likely to exist or develop in other products of the same type design.

AD Requirements

This AD requires visually inspecting the center and outer wing front spar lower hinge fittings for cracks and corrosion and taking all necessary corrective actions. This AD also requires sending the inspection results to the FAA.

Based on the reports received from the AD requirements, we will work with the type certificate holder to evaluate that information to determine whether repetitive inspections are necessary and/or a possible terminating action. Based on this evaluation, we may initiate further rulemaking action to address the unsafe condition identified in this AD.

FAA's Justification and Determination of the Effective Date

An unsafe condition exists that requires the immediate adoption of this AD. The FAA has found that the risk to the flying public justifies waiving notice and comment prior to adoption of this rule because failure of the wing front spar lower hinge fitting could cause the wing to separate from the airplane and cause loss of control. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2016-5422 and Directorate Identifier 2016-CE-011-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 95 airplanes of U.S. registry.

We estimate the following costs to comply with this AD:

Estimated Costs
Action | Labor cost | Parts cost | Cost per product | Cost on U.S. operators
Visually inspect the center and outer wing front spar lower hinge fitting | 2 work-hours × $85 per hour = $170 | N/A | $170 | $16,150

We estimate the following costs to do any necessary repair or replacement that will be required based on the results of the inspection. We have no way of determining the number of aircraft that might need this corrective action:

On-Condition Costs
Action | Labor cost | Parts cost | Cost per product
Replace wing front spar lower hinge fitting | 6 work-hours × $85 per hour = $510 per fitting | $800 per fitting | $1,310 per fitting.
Remove corrosion on wing front spar lower hinge fitting | 2 work-hours × $85 per hour = $170 | N/A | $170.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591. ATTN: Information Collection Clearance Officer, AES-200.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-07-11 Weatherly Aircraft Company: Amendment 39-18456; Docket No. FAA-2016-5422; Directorate Identifier 2016-CE-011-AD.

(a) Effective Date

This AD is effective April 15, 2016.

(b) Affected ADs

None.

(c) Applicability

This AD applies to Weatherly Aircraft Company Models 201, 201A, 201B, 201C, 620, 620A, 620B, 620B-TG, and 620TP airplanes, all serial numbers, that:

(1) have center and outer wing front spar lower hinge fittings, part number 40223 (any dash number configuration), installed; and

(2) are certificated in any category.

(d) Subject

Joint Aircraft System Component (JASC)/Air Transport Association (ATA) of America Code 57, Wing Attach Fittings.

(e) Unsafe Condition

This AD was prompted by a report of cracks found on the center wing front spar lower hinge fitting. We are issuing this AD to detect and correct cracks and corrosion in the center and outer wing front spar lower hinge fitting, which could cause the fittings to fail. Failure of the wing front spar lower hinge fitting could result in the wing separating from the airplane and loss of control.

(f) Compliance

Comply with this AD within the compliance times specified, unless already done.

(g) Inspection

Within the next 30 days after April 15, 2016 (the effective date of this AD), do a close visual inspection of the center and outer wing front spar lower hinge fittings for cracks and corrosion. Prior to the inspection do the following:

(1) Remove the left and right center wing to outer wing joint covers from the airplane.

(2) Remove the lower forward wing hinge pin bolt caps.

(h) Replacement

If any cracks are found during the inspection required in paragraph (g) of this AD, before further flight, replace the cracked wing front spar lower hinge fitting with an airworthy part.

(i) Repair

If any corrosion is found during the inspection required in paragraph (g) of this AD, before further flight, remove up to .020 inches of the wing front spar lower hinge fitting material in any direction to repair corrosion. Replace any parts requiring removal of more than .020-inch of wing front spar lower hinge fitting. Any operator may request an alternative to the replacement requirement using the procedures found in 14 CFR 39.19 and paragraph (m) of this AD.

(j) Reporting Requirement

Within the next 10 days after the inspection required in paragraph (g) of this AD or within 10 days after April 15, 2016 (the effective date of this AD), whichever occurs later, report the result of the inspection to the FAA, Los Angeles Aircraft Certification Office (ACO), Attn: Mike Lee, Aerospace Engineer, 3960 Paramount Blvd. Suite 100, Lakewood, California, 90712; fax: (562) 627-5210; email: mike.s.lee@faa.gov. Include the following information. Please identify AD 2016-07-11 in the subject line if submitted through email.

(1) Airplane serial number.

(2) Hours time-in-service at time of inspection.

(3) A description of any cracks found.

(4) A description of any corrosion found.

(k) Special Flight Permit

Special flight permits are allowed for this AD per 14 CFR 39.23 for the requirement to remove up to .020 inches of corrosion as required in paragraph (i) of this AD. Special flight permits are prohibited for all other requirements of this AD.

(l) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(m) Alternative Methods of Compliance (AMOCs)

(1) The Manager, Los Angeles ACO, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (n) of this AD.

(2) Before using any approved AMOC, notify your appropriate principal inspector, or lacking a principal inspector, the manager of the local flight standards district office/certificate holding district office.

(n) Related Information

For information on the subject matter of this AD, contact either:

(1) Weatherly Aircraft Company at phone: (316) 361-0101; email: weatherlyaircraft@cox.net; or

(2) Mike Lee, Aerospace Engineer, Aerospace Engineer, Los Angeles Aircraft Certification Office, FAA, 3960 Paramount Blvd. Suite 100, Lakewood, California, 90712; phone: (562) 627-5325; fax: (562) 627-5210; email: mike.s.lee@faa.gov.

Issued in Kansas City, Missouri, on March 25, 2016.
Pat Mullen,
Acting Manager, Small Airplane Directorate, Aircraft Certification Service.

[FR Doc. 2016-07228 Filed 3-30-16; 8:45 am]

BILLING CODE 4910-13-P